DEPARTMENT OF THE INTERIOR

National Park Service

[NPS-WASO-NAGPRA-19249; PPWOCRADN0-PCU00RP14.R50000]

Notice of Inventory Completion: U.S. Department of Defense, Army Corps of Engineers, Omaha District, Omaha, NE, and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by November 2, 2015.

ADDRESSES: Ms. Sandra Barnum, U.S. Army Engineer District, Omaha, ATTN: CENWO-PM-AB, 1616 Capitol Ave., Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the Omaha District. The human remains and associated funerary objects were removed from the Akichita site (39BF221), Buffalo County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by State Archaeological Research Center and Omaha District professional staff in consultation with representatives of The Three Affiliated Tribes of the Fort Berthold Reservation, North Dakota.

History and Description of the Remains

In 1962, human remains representing, at minimum, six individuals were removed from the Akichita site (39BF221) in Buffalo County, SD. Human remains excavated from the Akichita Site (39BF221) are presently located at the South Dakota State Archaeological Research Center (SARC), under control of the Omaha District. The human remains were collected during a salvage excavation at the site under the direction of Robert Gant, State Archaeological Commission, Vermillion, SD. The human remains, soil samples, and funerary objects collected by Gant were transported to the Commission's office at the W.H. Over Museum, Vermillion, SD.

In 1974, the collections were transferred to the newly established SARC. The human remains were then transferred to the University of Tennessee-Knoxville to be inventoried by Dr. William Bass.

The remains were returned to SARC in the 1980s, and were reburied at site 39ST15 along the Missouri River near Fort Pierre.

In 1999, a review of the 39BF221 collection located fragments of human remains from a these burials along with 7 funerary objects. The additional human remains, primarily hand bones, are from two adult individuals. No known individuals were identified. The associated funerary objects are 6 soil samples and a fragmented birch-wood twig mat.

The human remains were collected from the component of the site associated with the Coalescent Tradition (AD 1300-1780). The human remains are determined to be Native American due to their manner of burial, original context in the Native American component of the site, and the associated site artifacts of Native American origin. The Coalescent Tradition, based on oral tradition, physical anthropological data, archaeological data, and historic accounts, is likely to be ancestral Arikara. The Arikara are represented by the Three Affiliated Tribes of the Fort Berthold Reservation, North Dakota.

Determinations U.S. Army Corps of Engineers, Omaha District

Officials of the U.S. Army Corps of Engineers, Omaha District have determined that:

• Pursuant to 25 U.S.C. 3001(9), the human remains described in this notice represent the physical remains of two individuals of Native American ancestry.

• Pursuant to 25 U.S.C. 3001(3)(A), the 7 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capitol Ave., Omaha, NE 68102, telephone, (402) 995-2674, email sandra.v.barnum@usace.army.mil by November 2, 2015. After that date, if no additional requestors have come forward, transfer of control of the human remains and associated funerary objects to the Three Affiliated Tribes of the Fort Berthold Reservation, North Dakota, may proceed.

The U.S. Army Corps of Engineers, Omaha District is responsible for notifying the Three Affiliated Tribes of the Fort Berthold Reservation, North Dakota, that this notice has been published.

Dated: September 8, 2015.
Melanie O'Brien,
Manager, National NAGPRA Program.

[FR Doc. 2015-25049 Filed 9-30-15; 8:45 am]

BILLING CODE 4312-50-P